SECURITIES AND EXCHANGE COMMISSION

Sunshine Act Meetings

TIME AND DATE: Notice is hereby given, pursuant to the provisions of the Government in the Sunshine Act, Public Law 94-409, that the Securities and Exchange Commission will hold an Open Meeting on Friday, April 14, 2023 at 10 a.m.

PLACE: The meeting will be webcast on the Commission's website at www.sec.gov.

STATUS: This meeting will begin at 10:00 a.m. (ET) and will be open to the public via webcast on the Commission's website at www.sec.gov.

MATTERS TO BE CONSIDERED:

1. The Commission will consider whether to reopen the comment period for proposed amendments to Rule 3b-16 under the Securities Exchange Act of 1934 regarding the definition of “exchange” as set forth in Securities Exchange Act Release No. 94062.

CONTACT PERSON FOR MORE INFORMATION: For further information, and to ascertain what, if any, matters have been added, deleted or postponed, please contact Vanessa A. Countryman from the Office of the Secretary at (202) 551-5400.

Authority: 5 U.S.C. 552b.

Dated: April 7, 2023.
J. Matthew DeLesDernier,
Deputy Secretary.

[FR Doc. 2023-07755 Filed 4-10-23; 11:15 am]

BILLING CODE 8011-01-P